DEPARTMENT OF THE INTERIOR

Bureau of Land Management

[CACA 048811, LLCAD01500, L51010000.LVRWB13B5340.FX0000]

Notice of Intent To Prepare an Environmental Impact Statement for the Blythe Solar Power Project, Riverside County, CA

AGENCY: Bureau of Land Management, Interior.

ACTION: Notice of intent.

SUMMARY: In compliance with the National Environmental Policy Act of 1969, as amended (NEPA), and the Federal Land Policy and Management Act of 1976, as amended (FLPMA), the Bureau of Land Management (BLM) Palm Springs/South Coast Field Office, Palm Springs, California, intends to prepare an Environmental Impact Statement (EIS) considering proposed amendments to the Blythe Solar Power Project (BSPP) right-of-way (ROW) grant (CACA-048811). The amendments include a change in technology, reduced project footprint, and operation by a different project owner. By this notice, the BLM is announcing the beginning of the scoping process to solicit public comments and identify issues for the EIS.

DATES: This notice initiates the public scoping process for the EIS. Comments on issues related to the EIS may be submitted in writing until September 30, 2013. The date(s) and location(s) of any scoping meetings will be announced at least 15 days in advance through local media, newspapers, and on the BLM Web site at: http://www.blm.gov/ca/st/en/fo/cdd.html. In order to be fully addressed in the Draft EIS, all comments must be received prior to the close of the 30 day scoping period or 15 days after the last public meeting, whichever is later. We will provide additional opportunities for public participation upon publication of the Draft EIS.

ADDRESSES: You may submit comments on issues and alternatives related to the BSPP EIS by any of the following methods:

• Web site: http://www.blm.gov/ca/st/en/fo/cdd.html.

• Email: fmcmenimen@blm.gov.

• Fax: 760-833-7199, Attn: Frank McMenimen.

• Mail: ATTN: Frank McMenimen, Project Manager, BLM Palm Springs Field Office, 1201 Bird Center Drive, Palm Springs, CA 92262-8001.

Documents pertinent to this EIS may be examined at the BLM California Palm Springs Field Office.

FOR FURTHER INFORMATION CONTACT: Frank McMenimen; telephone 760-833-7199; address Frank McMenimen, Project Manager, BLM Palm Springs Field Office, 1201 Bird Center Drive, Palm Springs, CA 92262-8001; email fmcmenimen@blm.gov. Contact Mr. McMenimen to have your name added to our mailing list. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BSPP was originally permitted and approved on October 22, 2010, as a 1,000 megawatt (MW) solar thermal generating plant located on 6,831 acres of BLM-administered public land in the Palm Springs Field Office (CACA-048811). The Project area is located 8 miles west of Blythe, California, and 3 miles north of Interstate 10 (I-10).

The ROW grant was originally issued to Palo Verde Solar I, LLC, a wholly-owned subsidiary of Solar Millennium, which filed for Bankruptcy in April 2012. In mid-October 2012, NextEra Blythe Solar Energy Center, LLC (NBSEC), purchased the un-built BSPP as part of the bankruptcy process. The BLM approved the assignment of the ROW grant from the Palo Verde Solar I, LLC, to NBSEC on August 22, 2012. NBSEC now proposes to modify the solar technology and reduce the size of the project within the previously approved BSPP footprint. The NBSEC is proposing to construct, operate, maintain, and decommission the BSPP using solar photovoltaic (PV) technology with a capacity of 485 MWs on 4,138 acres of BLM-administered public land, as opposed to the originally approved 1,000 MWs on 6,831 acres. The NBSEC has submitted an amendment to the existing ROW grant (CACA 048811) to reduce the overall acreage of the project, change the authorized technology from concentrating solar trough to solar PV, adjust other aspects of the project layout related to the technology change, and reduce the BSPP's authorized capacity from 1,000 MW to 485 MW (the “Modified Project”). In connection with its development of the Modified Project, NBSEC filed a partial relinquishment of the existing ROW grant with the BLM on March 7, 2013.

The BLM has determined that the requested amendment for the Modified Project is not within the range of alternatives analyzed in the EIS prepared in connection with the original 2010 decision for the project; therefore, the BLM must undertake additional NEPA analysis to evaluate the proposed amendment.

The purpose of the public scoping process is to determine relevant issues that will influence the scope of this environmental analysis, including alternatives, and to guide the process for developing the Draft EIS. The BLM has identified the following preliminary issues: Noise, visual resources, wildlife, vegetation, hydrology, air quality, and cumulative effects along with other areas with high potential for renewable energy development. The BLM published the Final EIS for the existing project on August 20, 2010. The BLM will incorporate the analysis of that Project by reference to the extent appropriate, and also seeks comments on whether new issues or information have arisen since the publication of that Final EIS. Although the proposed amendment would be entirely within the project footprint analyzed in the 2010 Final EIS, the BLM has determined that a new EIS would assist in planning and decision-making on whether to approve NBSEC's proposed amendment.

The BLM, in consultation with the California State Historic Preservation Officer (SHPO), the Advisory Council on Historic Preservation (ACHP), and consulting parties pursuant to 36 CFR 800.4(b)(2), are phasing final identification and evaluation of historic properties for the project pursuant to 36 CFR 800.4(b)(2) because the alternatives under consideration consist of large land areas. In accordance with the requirements of 36 CFR 800.4(b)(2), the BLM executed a Programmatic Agreement (PA) in connection with its prior approval of the BSPP. The PA sets forth the process for completing phased compliance with Section 106 of the NHPA and also addresses subsequent modifications to the Project.

The BLM previously notified and invited federally recognized tribes to participate in the development of the PA. The Agua Caliente Band of Cahuilla Indians and the Colorado River Indian Tribes signed the PA as Concurring Parties. Tribes expressed their views and concerns about the importance and sensitivity of specific cultural resources to which they attach religious and cultural significance. The BLM will continue to consult with the tribes throughout the implementation of the PA regarding the adverse effects to historic properties to which they attach religious and cultural significance. The BLM will carry out its responsibilities to consult with tribes on a government-to-government basis and other members of the public pursuant to Section 106, Executive Order 13175, and other laws and policies to the extent applicable to its consideration of NBSEC's proposed amendment to the BSPP ROW grant. Tribal concerns, including impacts on Indian trust assets and potential impacts to cultural resources, will be given due consideration as part of that process.

Federal, State, and local agencies, along with tribes and other stakeholders that may be interested in or affected by the BLM's decision on the proposed project and amendment of the existing ROW authorization, are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

Authority: 40 CFR 1501.7, 43 CFR 1610.2, 2091.3-1(e), and 2804.25(e).

Thomas Pogacnik,
Deputy State Director, California.

[FR Doc. 2013-21285 Filed 8-29-13; 8:45 am]

BILLING CODE 4310-40-P